DEPARTMENT OF HEALTH AND HUMAN SERVICES

Centers for Disease Control and Prevention

Advisory Committee on Immunization Practices: Meeting

Correction: This notice was published in the Federal Register on May 4, 2007, Volume 72, Number 86, page 25318. The matters to be discussed have been changed.

Matters To Be Discussed: The agenda will include discussions on Vaccine Financing; Hepatitis A Post-Exposure Prophylaxis which will include a VFC Vote; Cold Adapted Influenza Vaccine; Immunization Safety; Tdap-IPV-Hib Combination Vaccine (Pentacel); MCV4 Dose to 2 years; Vaccine Shortages; Economic Analyses of Vaccines; Evidence-Based Recommendations; Human Papillomavirus Vaccine; Update on HIV Vaccines; Childhood Immunization Schedule; Adult Immunization Schedule; Update on Pneumococcal Vaccines Working Group; Update on Vaccines during Pregnancy and Breastfeeding Working Group; Hepatitis B update on Adult Recommendations; and Agency updates. VFC Votes will be taken to add Pentacel to the Diphtheria, Tetanus, Pertussis Resolution; to the Haemophilus Influenza Type B Resolution and to the Polio Resolution pending the Food and Drug Administration approval for licensure of Pentacel. Amended to include a VFC Vote on FluMist.

Agenda items are subject to change as priorities dictate.

Contact Person for More Information: Demetria Gardner, Immunization Services Division, National Center for Immunization and Respiratory Diseases, CDC, 1600 Clifton Road, NE., (E-05), Atlanta, Georgia 30333, telephone 404/639-8836, fax 404/639-6258.

The Director, Management Analysis and Services Office, has been delegated the authority to sign Federal Register notices pertaining to announcements of meetings and other committee management activities for both the CDC and ATSDR.

Dated: June 12, 2007.
Elaine L. Baker,
Acting Director, Management Analysis and Services Office, Centers for Disease Control and Prevention.

[FR Doc. E7-11789 Filed 6-18-07; 8:45 am]

BILLING CODE 4163-18-P